DEPARTMENT OF AGRICULTURE

Rural Housing Service

[Docket No. RHS-24-CF-0027]

60-Day Notice of Proposed Information Collection: Rural Community Development Initiative (RCDI) Grant Program; OMB Control No.: 0575-0180

AGENCY: Rural Housing Service, USDA.

ACTION: Notice; request for comments.

SUMMARY: In accordance with the Paperwork Reduction Act of 1995, the United States Department of Agriculture (USDA) Rural Housing Service (RHS or Agency) announces its intention to request a revision of a currently approved information collection and invites comments on this information collection.

DATES: Comments on this notice must be received by October 28, 2024 to be assured of consideration.

ADDRESSES: Comments may be submitted electronically through the Federal eRulemaking Portal, regulations.gov. In the “Search for dockets and documents on agency actions” box, enter the docket number “RHS-24-CF-0027,” and click the “Search” button. From the search results: click on or locate the document title: “60-Day Notice of Proposed Information Collection: “Rural Community Development Initiative (RCDI) Grant Program” and select the “Comment” button. Before inputting comments, commenters may review the “Commenter's Checklist” (optional). To submit a comment: Insert comments under the “Comment” title, click “Browse” to attach files (if available), input email address, select box to opt to receive email confirmation of submission and tracking (optional), select the box “I'm not a robot,” and then select “Submit Comment.”

Information on using Regulations.gov, including instructions for accessing documents, submitting comments, and viewing the docket after the close of the comment period, is available through the site's “FAQ” link.

All comments will be available for public inspection online at the Federal eRulemaking Portal (regulations.gov).

FOR FURTHER INFORMATION CONTACT: MaryPat Daskal, Rural Development Innovation Center—Regulations Management Division, USDA, 1400 Independence Avenue SW, Room 4227, South Building, Washington, DC 20250-1522. Telephone: (202) 720-7853. Email: MaryPat.Daskal@usda.gov.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies the following information collection that RHS is submitting to OMB as a revision to an existing collection with Agency adjustment.

Title: Rural Community Development Initiative (RCDI).

OMB Number: 0575-0180.

Expiration Date of Approval: January 31, 2025.

Type of Request: Revision of a currently approved collection.

Estimate of Burden: This collection of information is estimated to average 1.19 hours per response.

Respondents: Intermediaries and recipients.

Estimated Number of Respondents: 90.

Estimated Number of Responses per Respondent: 38.44.

Estimated Total Number of Responses: 3,460.

Estimated Annual Reporting Burden on Respondents: 3,294 hours.

Estimated Annual Recordkeeping Burden on Respondents: 840 hours.

Estimated Total Annual Burden on Respondents: 4,134 hours.

Abstract

RHS, an Agency within the USDA Rural Development mission area, administers the RCDI grant program through the Community Facilities Division. The intent of the RCDI grant program is to develop the capacity and ability of rural area recipients to undertake projects through a program of technical assistance provided by qualified intermediary organizations. The eligible recipients are nonprofit organizations, low-income rural communities, or federally recognized Indian tribes. The intermediary may be a qualified private, nonprofit, or public (including tribal) organization. The intermediary is the applicant. The intermediary must have been organized a minimum of three (3) years at the time of application. The intermediary will be required to provide matching funds, in the form of cash or committed funding, in an amount at least equal to the RCDI grant.

Information will be collected by the field offices from applicants. The collection of information is considered the minimum necessary to effectively evaluate the overall scope of the project.

Failure to collect information could have an adverse impact on effectively carrying out the mission, administration, processing, and program requirements.

Comments are invited on:

(a) Whether the proposed collection of information is necessary for the proper performance of the functions of the Agency, including whether the information will have practical utility.

(b) The accuracy of the Agency's estimate of the burden of the proposed collection of information including the validity of the methodology and assumptions used.

(c) Ways to enhance the quality, utility, and clarity of the information to be collected; and

(d) Ways to minimize the burden of the collection of information on respondents, including through the use of appropriate automated, electronic, mechanical, or other technological collection techniques or other forms of information technology. All responses to this notice will be summarized and included in the request for OMB approval. All comments will become a matter of public record.

Copies of this information collection can be obtained from Lisa Day, Innovation Center—Regulations Management Division, at (971) 313.4750. Email: Lisa.Day@USDA.GOV.

All responses to this notice will be summarized and included in the request for OMB approval. All comments will also become a matter of public record.

Joaquin Altoro,
Administrator, Rural Housing Service.

[FR Doc. 2024-19231 Filed 8-26-24; 8:45 am]

BILLING CODE 3410-XV-P